SMALL BUSINESS ADMINISTRATION

[Disaster Declaration # 11196 and # 11197]

Georgia Disaster Number GA-00012

AGENCY: U.S. Small Business Administration.

ACTION: Amendment 1.

SUMMARY: This is an amendment of the Presidential declaration of a major disaster for the State of Georgia (FEMA-1750-DR), dated 03/20/2008.

Incident: Severe Storms and Tornadoes.

Incident Period: 03/14/2008 through 03/16/2008.

EFFECTIVE DATE: 03/22/2008.

Physical Loan Application Deadline Date: 05/19/2008.

EIDL Loan Application Deadline Date: 12/22/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Georgia, dated 03/20/2008 is hereby amended to include the following areas as adversely affected by the disaster:

Primary Counties: Bartow, Burke, Dekalb, Floyd, Jefferson, Polk.

Contiguous Counties:

Georgia: Chattooga, Emanuel, Glascock, Gordon, Haralson, Henry, Jenkins, Johnson, Mcduffie, Paulding, Pickens, Richmond, Rockdale, Screven, Walker, Warren, Washington.

Alabama: Cherokee, Cleburne.

South Carolina: Aiken, Allendale, Barnwell.

All other information in the original declaration remains unchanged.

(Catalog of Federal Domestic Assistance Numbers 59002 and 59008)

Herbert L. Mitchell,
Associate Administrator for Disaster Assistance.

[FR Doc. E8-6552 Filed 3-28-08; 8:45 am]

BILLING CODE 8025-01-P